DEPARTMENT OF ENERGY

Federal Energy Regulatory Commission

Combined Notice of Filings #1

Take notice that the Commission received the following electric rate filings:

Docket Numbers: ER10-1786-003.

Applicants: Credit Suisse Energy LLC.

Description: Notice of Change in Status by Credit Suisse Energy LLC.

Filed Date: 09/20/2011.

Accession Number: 20110920-5119.

Comment Date: 5 p.m. Eastern Time on Tuesday, October 11, 2011.

Docket Numbers: ER11-4575-000.

Applicants: Southern California Edison Company.

Description: Southern California Edison Company submits tariff filing per 35.13(a)(2)(iii: SGIA WDAT SERV AG SCE- SEPV1 LLC SEPV1 Project to be effective 9/21/2011.

Filed Date: 09/20/2011.

Accession Number: 20110920-5074.

Comment Date: 5 p.m. Eastern Time on Tuesday, October 11, 2011.

Docket Numbers: ER11-4576-000.

Applicants: PJM Interconnection, LLC, The Dayton Power and Light Company

Description: PJM Interconnection, LLC submits tariff filing per 35.13(a)(2)(iii: PJM Transmission Owners revisions to the CTOA and related sections to the OATT to be effective 11/19/2011.

Filed Date: 09/20/2011.

Accession Number: 20110920-5083.

Comment Date: 5 p.m. Eastern Time on Tuesday, October 11, 2011.

Docket Numbers: ER11-4577-000.

Applicants: Bell Independent Power.

Description: Bell Independent Power submits tariff filing per 35.1: Baseline Market Based Rate Tariff to be effective 9/23/2011.

Filed Date: 09/20/2011.

Accession Number: 20110920-5084.

Comment Date: 5 p.m. Eastern Time on Tuesday, October 11, 2011.

Docket Numbers: ER11-4578-000.

Applicants: PJM Interconnection, LLC, The Dayton Power and Light Company

Description: PJM Interconnection, LLC submits tariff filing per 35.13(a)(2)(iii: PJM Transmission Owners revisions to the CTOA and related sections to the OATT to be effective 11/19/2011.

Filed Date: 09/20/2011.

Accession Number: 20110920-5096.

Comment Date: 5 p.m. Eastern Time on Tuesday, October 11, 2011.

Docket Numbers: ER11-4579-000.

Applicants: Southern California Edison Company.

Description: Southern California Edison Company submits tariff filing per 35.13(a)(2)(iii: SGIA WDAT SERV AG SCE-SEPV 2 LLC SEPV 5 Project to be effective 9/21/2011.

Filed Date: 09/20/2011.

Accession Number: 20110920-5099.

Comment Date: 5 p.m. Eastern Time on Tuesday, October 11, 2011.

Docket Numbers: ER11-4580-000.

Applicants: California Independent System Operator Corporation.

Description: California Independent System Operator Corporation submits tariff filing per 35.13(a)(2)(iii: 2011-09-20 CAISO CB Intertie Amendment Filing to be effective 11/28/2011.

Filed Date: 09/21/2011.

Accession Number: 20110921-5000.

Comment Date: 5 p.m. Eastern Time on Wednesday, October 12, 2011.

Docket Numbers: ER11-4581-000.

Applicants: Power Bidding Strategies, LLC.

Description: Power Bidding Strategies, LLC submits notice of cancellation.

Filed Date: 09/21/2011.

Accession Number: 20110921-5018.

Comment Date: 5 p.m. Eastern Time on Wednesday, October 12, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 21, 2011.
Nathaniel J. Davis, Sr.,
Deputy Secretary.

[FR Doc. 2011-24890 Filed 9-27-11; 8:45 am]

BILLING CODE 6717-01-P